DEPARTMENT OF COMMERCE

National Oceanic and Atmospheric Administration

RIN 0648-XC399

Fisheries of the Northeast Region, Southeast Region, North Pacific Region, Pacific Region; Western Pacific Region

AGENCY: National Marine Fisheries Service (NMFS), National Oceanic and Atmospheric Administration (NOAA), Commerce.

ACTION: Notification of a determination of overfishing or an overfished condition.

SUMMARY: This action serves as a notice that NMFS, on behalf of the Secretary of Commerce (Secretary), has determined that the following stocks are subject to overfishing or are in an overfished state: Georges Bank (GB) yellowtail flounder is subject to overfishing and continues to be in an overfished condition; Bering Sea and Aleutian Islands (BSAI) octopus complex was determined to be subject to overfishing; both North Pacific Pribilof Islands blue king crab, and South Atlantic red porgy were found to be in an overfished condition; Pacific bluefin tuna (Thunnus orientalis), which is jointly managed by the Pacific Fisheries Management Council and the Western Pacific Fisheries Management Council, continues to be subject to overfishing and is now in an overfished condition.

NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Mark Nelson, (301) 427-8565.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is: overfished; approaching an overfished condition; or an existing rebuilding plan has not ended overfishing or resulted in adequate rebuilding progress. NMFS also notifies Councils when it determines a stock or stock complex is subject to overfishing. Section 304(e)(2) further requires NMFS to publish these notices in the Federal Register.

On December 4, 2012, NMFS informed the New England Fishery Management Council that the latest stock assessment for Georges Bank yellowtail flounder overfishing was occurring, and the stock remains in an overfished condition.

On December 5, 2012, at the North Pacific Fishery Management Council meeting, NMFS reported to the Council that the catch of the BSAI octopus complex exceeded the overfishing limit (OFL) for the 2011 fishing year, therefore the stock was determined to be subject to overfishing.

On January 24, 2013, NMFS also notified the North Pacific Fishery Management Council that the latest assessment has found that Pribilof Islands blue king crab remains in an overfished condition, even though fishing mortality has been limited to levels well below OFL. Unfavorable environmental conditions, resulting in poor recruitment, are thought to be a large factor in the stock's decline.

NMFS informed the South Atlantic Fishery Management Council of the status of red porgy at their December 2012 Council meeting. At this meeting NMFS scientists presented the results from the latest stock assessment showing that red porgy remains in an overfished condition but is no longer experiencing overfishing.

On April 8, 2013, NMFS informed both the Pacific Fishery Management Council and Western Pacific Fishery Management Council that the latest assessment of Pacific bluefin tuna conducted by the International Scientific Committee for Tuna and Tuna-Like Species in the North Pacific Ocean (ISC) concluded that the stock is still experiencing overfishing and is now in an overfished condition. The Southwest Fisheries Science Center affirmed that the ISC stock assessment was the best available science.

Pacific bluefin tuna is considered to be a single North Pacific-wide stock. Its conservation and management are the responsibility of the Western and Central Pacific Fisheries Commission and the Inter-American Tropical Tuna Commission. The United States is a member of both regional fishery management organizations. Although both regional fisheries management organizations have internationally agreed upon management measures in place for Pacific bluefin tuna, these measures are inadequate to end overfishing. NMFS has determined that Section 304(i) of the Magnuson-Stevens Fishery Conservation and Management Act (MSA) applies because: (i) The overfished and overfishing condition of Pacific bluefin is due to excessive international fishing pressure and (ii) the IATTC and WCPFC have inadequate measures in place to correct the problem. Therefore, the Councils are not required to prepare an FMP amendment to end overfishing, but must undertake action under MSA Section 304(i)(2).

This section requires the Council, or the Secretary, to develop domestic regulations to address the relative impact or the domestic fishing fleet; and to develop recommendations for the Secretary of State, and to Congress, to address international actions to end overfishing and rebuild Pacific bluefin tuna.

Dated: July 2, 2013.
Emily H. Menashes,
Deputy Director, Office of Sustainable Fisheries, National Marine Fisheries Service.

[FR Doc. 2013-16510 Filed 7-8-13; 8:45 am]

BILLING CODE 3510-22-P